DEPARTMENT OF ENERGY

Federal Energy Regulatory Commission

[Docket No. EL12-105-000]

J. P. Morgan Ventures Energy Corp. v. California Independent System Operator Corp.: Notice of Complaint

Take notice that on September 14, 2012, pursuant to Rule 206 of the Federal Energy Regulatory Commission's (Commission) Rules of Practice and Procedure, 18 CFR 385.206 and section 206 of the Federal Power Act, 16 U.S.C. 824(e), J. P. Morgan Ventures Energy Corp. (Complainant or JPMVEC) filed a formal complaint against California Independent System Operator Corp. (Respondent or CAISO) alleging that the Respondent is violating its tariff by underpaying the JPMVEC for the Respondent's Exceptional Dispatches ¹ of energy generating resources controlled through tolling agreements by JPMVEC and its subsidiary BE CA LLC. The Complainant is seeking (1) a determination by the Commission that CAISO's failure to pay JPMVEC its bid prices for Exceptional Dispatches violated section 11.5.6 of the CAISO tariff and (2) an order from the Commission directing CAISO to comply immediately with the tariff provisions governing payment for Exceptional Dispatches and to pay JPMVEC the full amount owed for energy acquired through Exceptional Dispatches, with interest as calculated under 18 CFR 35.19a.

¹ The CAISO tariff defines “Exceptional Dispatch” as “a Dispatch Instruction issued for the purposes specified in Section 34.9. Energy from Exceptional Dispatches shall not set any Dispatch Interval LMP.” CAISO tariff, App. A

The Complainant certifies that copies of the complaint were served on the contacts for the Respondent as listed in the Commission's list of Corporate Officials.

Any person desiring to intervene or to protest this filing must file in accordance with Rules 211 and 214 of the Commission's Rules of Practice and Procedure (18 CFR 385.211, 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 14 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5 p.m. Eastern Time on October 4, 2012.

Dated: September 17, 2012.
Kimberly D. Bose,
Secretary.

[FR Doc. 2012-23424 Filed 9-21-12; 8:45 am]

BILLING CODE 6717-01-P